FEDERAL COMMUNICATIONS COMMISSION

47 CFR Parts 1, 2, 15, 90, 95, and 97

[ET Docket No. 15-26; FCC 17-94]

Permitting Radar Services in the 76-81 GHz Band

Correction

In rule document 2017-18463 beginning on page 43865 in the issue of Wednesday, September 20, 2017, make the following correction:

§ 2.106 [Corrected]

In Part 2, in § 2.106, on page 43869, the table should appear as follows:

[FR Doc. C1-2017-18463 Filed 10-5-17; 8:45 am]

BILLING CODE 1301-00-D